DEPARTMENT OF ENERGY

Federal Energy Regulatory Commission

Combined Notice of Filings

Take notice that the Commission has received the following Natural Gas Pipeline Rate and Refund Report filings:

Filings Instituting Proceedings

Docket Numbers: RP14-792-000.

Applicants: Transcontinental Gas Pipe Line Company.

Description: Negotiated Rates—Cherokee AGL—Replacement Shippers—May 2014 to be effective 5/1/2014.

Filed Date: 4/30/14.

Accession Number: 20140430-5117.

Comments Due: 5 p.m. ET 5/12/14.

Docket Numbers: RP14-793-000.

Applicants: Algonquin Gas Transmission, LLC.

Description: Negotiated Rate Release eff 5-1-14 to be effective 5/1/2014.

Filed Date: 4/30/14.

Accession Number: 20140430-5147.

Comments Due: 5 p.m. ET 5/12/14.

Docket Numbers: RP14-794-000.

Applicants: Algonquin Gas Transmission, LLC.

Description: Keyspan Ramapo Release eff 5-1-14 to be effective 5/1/2014.

Filed Date: 4/30/14.

Accession Number: 20140430-5151.

Comments Due: 5 p.m. ET 5/12/14.

Docket Numbers: RP14-795-000.

Applicants: Cheyenne Plains Gas Pipeline Company, L.

Description: FL&U and EPC Filing effective June 1, 2014 to be effective 6/1/2014.

Filed Date: 4/30/14.

Accession Number: 20140430-5152.

Comments Due: 5 p.m. ET 5/12/14.

Docket Numbers: RP14-796-000.

Applicants: Dominion Transmission, Inc.

Description: DTI—System Map Update 2014 to be effective 6/1/2014.

Filed Date: 4/30/14.

Accession Number: 20140430-5153.

Comments Due: 5 p.m. ET 5/12/14.

Docket Numbers: RP14-797-000.

Applicants: TC Offshore LLC.

Description: Cashout 2014 to be effective 6/1/2014.

Filed Date: 4/30/14.

Accession Number: 20140430-5163.

Comments Due: 5 p.m. ET 5/12/14.

Docket Numbers: RP14-798-000.

Applicants: Rockies Express Pipeline LLC.

Description: Neg Rate 2014-4-30 Marathon and WIC to be effective 5/1/2014.

Filed Date: 4/30/14.

Accession Number: 20140430-5167.

Comments Due: 5 p.m. ET 5/12/14.

Docket Numbers: RP14-799-000.

Applicants: Questar Overthrust Pipeline Company.

Description: Non-Conforming TSA # 5164, Marathon Oil to be effective 5/1/2014.

Filed Date: 4/30/14.

Accession Number: 20140430-5192.

Comments Due: 5 p.m. ET 5/12/14.

Docket Numbers: RP14-800-000.

Applicants: Chandeleur Pipe Line, LLC.

Description: Chandeleur Section 4 System Map Annual Filing to be effective 5/30/2014.

Filed Date: 4/30/14.

Accession Number: 20140430-5228.

Comments Due: 5 p.m. ET 5/12/14.

Docket Numbers: RP14-801-000.

Applicants: Tallgrass Interstate Gas Transmission, L.

Description: Neg Rate 2014-04-30 Valero to be effective 5/1/2014.

Filed Date: 4/30/14.

Accession Number: 20140430-5236.

Comments Due: 5 p.m. ET 5/12/14.

Docket Numbers: RP14-802-000.

Applicants: Tallgrass Interstate Gas Transmission, L.

Description: TIGT System Maps and Terms & Conditions Tariff Update to be effective 5/30/2014.

Filed Date: 4/30/14.

Accession Number: 20140430-5244.

Comments Due: 5 p.m. ET 5/12/14.

Docket Numbers: RP14-803-000.

Applicants: WBI Energy Transmission, Inc.

Description: 2014 System Maps to be effective 4/30/2014.

Filed Date: 4/30/14.

Accession Number: 20140430-5275.

Comments Due: 5 p.m. ET 5/12/14.

Docket Numbers: RP14-804-000.

Applicants: Panhandle Eastern Pipe Line Company, LP.

Description: Map Filing on 4-30-14 to be effective 6/1/2014.

Filed Date: 4/30/14.

Accession Number: 20140430-5328.

Comments Due: 5 p.m. ET 5/12/14.

Docket Numbers: RP14-805-000.

Applicants: Florida Gas Transmission Company, LLC.

Description: Map Filing on 4-30-14 to be effective 6/1/2014.

Filed Date: 4/30/14.

Accession Number: 20140430-5334.

Comments Due: 5 p.m. ET 5/12/14.

Docket Numbers: RP14-806-000.

Applicants: Empire Pipeline, Inc.

Description: System Map (Empire) 04-30-14 to be effective 6/1/2014.

Filed Date: 4/30/14.

Accession Number: 20140430-5372.

Comments Due: 5 p.m. ET 5/12/14.

Docket Numbers: RP14-807-000.

Applicants: Dominion Transmission, Inc.

Description: DTI—April 30, 2014 Negotiated Rate & Nonconforming Service Agreements to be effective 5/1/2014.

Filed Date: 4/30/14.

Accession Number: 20140430-5385.

Comments Due: 5 p.m. ET 5/12/14.

Docket Numbers: RP14-808-000.

Applicants: TransColorado Gas Transmission Company L.

Description: TransColorado System Map Update to be effective 5/31/2014.

Filed Date: 4/30/14.

Accession Number: 20140430-5405.

Comments Due: 5 p.m. ET 5/12/14.

Docket Numbers: RP14-809-000.

Applicants: El Paso Natural Gas Company, L.L.C.

Description: EPNG System Map Update to be effective 5/31/2014.

Filed Date: 4/30/14.

Accession Number: 20140430-5409.

Comments Due: 5 p.m. ET 5/12/14.

Docket Numbers: RP14-810-000.

Applicants: Mojave Pipeline Company, L.L.C.

Description: Mojave System Map Update to be effective 5/31/2014.

Filed Date: 4/30/14.

Accession Number: 20140430-5412.

Comments Due: 5 p.m. ET 5/12/14.

Docket Numbers: RP14-811-000.

Applicants: Colorado Interstate Gas Company, L.L.C.

Description: System Map Update to be effective 5/31/2014.

Filed Date: 4/30/14.

Accession Number: 20140430-5414.

Comments Due: 5 p.m. ET 5/12/14.

Docket Numbers: RP14-812-000.

Applicants: Wyoming Interstate Company, L.L.C.

Description: WIC System Map Update to be effective 5/31/2014.

Filed Date: 4/30/14.

Accession Number: 20140430-5415.

Comments Due: 5 p.m. ET 5/12/14.

Docket Numbers: RP14-813-000.

Applicants: Rockies Express Pipeline LLC.

Description: Neg Rate 2014-04-30 ConocoPhillips to be effective 5/1/2014.

Filed Date: 4/30/14.

Accession Number: 20140430-5420.

Comments Due: 5 p.m. ET 5/12/14.

Docket Numbers: RP14-814-000.

Applicants: Midcontinent Express Pipeline LLC.

Description: Fuel Tracking Filing April 2014 to be effective 6/1/2014.

Filed Date: 4/30/14.

Accession Number: 20140430-5423.

Comments Due: 5 p.m. ET 5/12/14.

Docket Numbers: RP14-815-000.

Applicants: National Fuel Gas Supply Corporation.

Description: Tariff Maps (04-30-14) to be effective 6/1/2014.

Filed Date: 4/30/14.

Accession Number: 20140430-5468.

Comments Due: 5 p.m. ET 5/12/14.

Docket Numbers: RP14-816-000.

Applicants: Tallgrass Interstate Gas Transmission, L.

Description: Neg Rate 2014-04-30 Ethanol Shippers to be effective 5/1/2014.

Filed Date: 4/30/14.

Accession Number: 20140430-5479.

Comments Due: 5 p.m. ET 5/12/14.

Docket Numbers: RP14-817-000.

Applicants: Equitrans, L.P.

Description: Equitrans' Tariff Clean-Up Filing-April 2014 to be effective 5/30/2014.

Filed Date: 4/30/14.

Accession Number: 20140430-5517.

Comments Due: 5 p.m. ET 5/12/14.

Docket Numbers: RP14-818-000.

Applicants: Equitrans, L.P.

Description: Errata Equitrans' Tariff Clean-Up Filing-April 2014 to be effective 5/30/2014.

Filed Date: 5/1/14.

Accession Number: 20140501-5066.

Comments Due: 5 p.m. ET 5/13/14.

Docket Numbers: RP14-819-000.

Applicants: Gulf South Pipeline Company, LP.

Description: Cap Rel Neg Rate Agmt (QWest 42411 to Texla 42426) to be effective 5/1/2014.

Filed Date: 5/1/14.

Accession Number: 20140501-5070.

Comments Due: 5 p.m. ET 5/13/14.

Docket Numbers: RP14-820-000.

Applicants: Chandeleur Pipe Line, LLC.

Description: Annual True Up Filing and Request for Waiver of Surcharge Requirement of Chandeleur Pipe Line, LLC.

Filed Date: 4/30/14.

Accession Number: 20140430-5561.

Comments Due: 5 p.m. ET 5/12/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-118-002.

Applicants: WBI Energy Transmission, Inc.

Description: Motion Filing to be effective 5/1/2014.

Filed Date: 4/30/14.

Accession Number: 20140430-5492.

Comments Due: 5 p.m. ET 5/12/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2014.
Kimberly D. Bose,
Secretary.

[FR Doc. 2014-10704 Filed 5-8-14; 8:45 am]

BILLING CODE 6717-01-P